DEPARTMENT OF EDUCATION

[CFDA No.: 84.304A]

Office of Educational Research and Improvement; Cooperative Civic Education and Economic Education Exchange Program; Notice Inviting Applications for New Awards for Fiscal Year (FY) 2002

Purpose of Program: The purpose of the Cooperative Education Exchange program is to improve the quality of civic education through cooperative civic education exchange programs with emerging democracies.

This competition is for organizations that are defined in the Eligible Applicants section below. For FY 2002 the competition for new awards focuses on projects designed to carry out the authorized activities listed under the Program Activities section of this notice.

Eligible Applicants: Organizations in the United States experienced in the development of curricula and programs in civics and government education and economic education for students in elementary schools and secondary schools in countries other than the United States, to carry out civic education activities.

Primary Participants: The primary participants in the Cooperative Education Exchange Programs assisted under this section will be leaders in the areas of civics and government education, including teachers, curriculum and teacher training specialists, scholars in relevant disciplines, educational policymakers, and government and private sector leaders from the United States and eligible countries.

Applications Available: May 24, 2002.

Deadline for Transmittal of Applications: July 15, 2002.

Deadline for Intergovernmental Review: September 13, 2002.

Estimated Available Funds: $2,875,000.

Estimated Range of Awards: $100,000 to $2,875,000.

Estimated Average Size of Awards: The size of any award will be commensurate with the nature and level of activities proposed.

Maximum Award: We will reject any application that proposes a budget exceeding $2,875,000 for a single budget period of 12 months. The Assistant Secretary for the Office of Educational Research and Improvement may change the maximum amount through a notice published in the Federal Register.

Estimated Number of Awards: At least one, but not more than three.

Note: The Department is not bound by any estimates in this notice.

Project Period: Up to 60 months.

Applicable Regulations and Statue: (a) The Education Department General Administrative Regulations (EDGAR) in 34 CFR parts 74, 75, 77, 79, 81, 82, 85, 86, 97, 98, and 99. (b) The regulations in 34 CFR part 700. (c) Education for Democracy Act, sections 2341-2346 of the Elementary and Secondary Education Act as amended, 20 U.S.C. 6711-6716.

Program Activities: In carrying out the Cooperative Education Exchange Program eligible organizations shall—

(1) Provide to the participants from eligible countries—

(A) Seminars on the basic principles of United States constitutional democracy, including seminars on the major governmental institutions and systems in the United States, and visits to such institutions;

(B) Visits to school systems, institutions of higher education, and nonprofit organizations conducting exemplary programs in civics and government education in the United States;

(C) Translations and adaptations with respect to United States civics and government education curricular programs for students and teachers, and in the case of training programs for teachers, translations and adaptations into forms useful in school in eligible countries, and joint research projects in such areas; and

(D) Independent research and evaluation assistance—

(i) To determine the effects of the cooperative education exchange programs on students' development of the knowledge, skills, and traits of character essential for the preservation and improvement of constitutional democracy; and

(2) provide to the participants from the United States—

(A) Seminars on the histories and systems of government of eligible countries;

(B) Visits to school systems, institutions of higher education, and organizations conducting exemplary programs in civics and government education located in eligible countries;

(C) Assistance from educators and scholars in eligible countries in the development of curricular materials on the histories and governments of such countries that are useful in the United States classrooms;

(D) Opportunities to provide onsite demonstrations of United States curricula and pedagogy for educational leaders in eligible countries; and

(E) Independent research and evaluation assistance to determine—

(i) The effects of the Cooperative Education Exchange Programs assisted under this section on students' development of the knowledge, skills, and traits of character essential for the preservation and improvement of constitutional democracy; and

(3) Assist participants from eligible countries and the United States to participate in international conferences on civics and government education for educational leaders, teacher trainers, scholars in related disciplines, and educational policymakers.

Eligible Countries: The term eligible country means a Central European country, an Eastern European country, Lithuania, Latvia, Estonia, the independent states of the former Soviet Union as defined in section 3 of the FREEDOM Support Act (22 U.S.C. 5801), the Republic of Ireland, the province of Northern Ireland in the United Kingdom, and any developing country (as such term is defined in section 209(d) of the Education for the Deaf Act) if the Secretary, with concurrence of the Secretary of State, determines that such developing country has a democratic form of government.

Selection Criteria: The Secretary selects from the criteria in 34 CFR 700.30(e) to evaluate applications for new grants under this competition. Under 34 CFR 700.30(a), the Secretary will announce in the application package the evaluation criteria selected for this competition and the maximum weight assigned to each criterion.

FOR APPLICATIONS AND FURTHER INFORMATION CONTACT: Rita Foy Moss, U.S. Department of Education, 555 New Jersey Avenue, NW, room 510, Washington, DC 20208-5573. Telephone: (202) 219-2079 or via Internet rita.foy@ed.gov.

If you use telecommunications device for the deaf (TDD), you may call the Federal Information Relay Service (FIRS) at 1-800-877-8339.

Individuals with disabilities may obtain this document in an alternative format (e.g., Braille, large print, audiotape, or computer diskette) on request to the program contact person listed under the FOR APPLICATIONS OR FURTHER INFORMATION CONTACT.

Individuals with disabilities may obtain a copy of the application package in an alternative format by contacting the person listed. However, the Department is not able to reproduce in an alternative format the standard forms included in the application package.

Electronic Access to This Document

You may view this document, as well as all other Department of Education documents published in the Federal Register, in text to Adobe Portable Document Format (PDF) on the Internet at the following site: www.ed.gov/legislation/FedRegister. To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http:/www.access.gpo.gov/nara.index.html.

Program Authority: 20 U.S.C. 6711-6716.

Dated: May 10, 2002.
Grover J. Whitehurst,
Assistant Secretary for Educational Research and Improvement.

[FR Doc. 02-12457 Filed 5-16-02; 8:45 am]

BILLING CODE 4000-01-M